DEPARTMENT OF COMMERCE

Census Bureau

Notice of Correction to Federal Register Notice for 2018 End-to-End Census Test- Post-Enumeration Survey Independent Listing Operation

AGENCY: U.S Census Bureau, Commerce.

ACTION: Notice of correction.

SUMMARY: On December 28, 2016, Federal Register Document 2016-31410 was published, which provided the Census Bureau's plans for the 2018 End-to-End Census Test- Post-Enumeration Survey Independent Listing Operation. This collection was subsequently cancelled. This Correction Notice serves as notification of the cancellation of this collection after the Federal Register Notice was published for public comment.

Sheleen Dumas,
PRA Departmental Lead, Office of the Chief Information Officer.

[FR Doc. 2017-05142 Filed 3-14-17; 8:45 am]

BILLING CODE 3510-07-P